FEDERAL COMMUNICATIONS COMMISSION

47 CFR Part 64

[WC Docket No. 12-375, DA 21-1422; FR 58958]

Wireline Competition Bureau Seeks Comment on Securus Technologies, LLC's Petition for Waiver of the Inmate Calling Services Per-Minute Rate Requirement

AGENCY: Federal Communications Commission.

ACTION: Solicitation of Comments.

SUMMARY: The Wireline Competition Bureau seeks comment on a petition filed by Securus Technologies, LLC asking the Commission to waive certain sections of its regulations, which require interstate and international inmate calling services calls to be charged to customers only on a per-minute basis.

DATES: Comments are due January 7, 2021, and Reply comments are due January 21, 2022.

ADDRESSES: You may submit comments, identified by WC Docket No. 12-375, by any of the following methods:

• Electronic Filers: Comments may be filed electronically using the internet by accessing the ECFS: https://apps.fcc.gov/ecfs/.

• Paper Filers: Parties who choose to file by paper must file an original and one copy of each filing.

• Filings can be sent by commercial overnight courier, or by first-class or overnight U.S. Postal Service mail. All filings must be addressed to the Commission's Secretary, Office of the Secretary, Federal Communications Commission.

• Commercial overnight mail (other than U.S. Postal Service Express Mail and Priority Mail) must be sent to 9050 Junction Drive, Annapolis Junction, MD 20701.

• U.S. Postal Service first-class, Express, and Priority mail must be addressed to 45 L Street NE, Washington, DC 20554.

• Effective March 19, 2020, and until further notice, the Commission no longer accepts any hand or messenger delivered filings. This is a temporary measure taken to help protect the health and safety of individuals, and to mitigate the transmission of COVID-19. See FCC Announces Closure of FCC Headquarters Open Window and Change in Hand-Delivery Policy, Public Notice, DA 20-304 (March 19, 2020). https://www.fcc.gov/document/fcc-closes-headquarters-open-window-and-changes-hand-delivery-policy.

People with Disabilities: To request materials in accessible formats for people with disabilities (braille, large print, electronic files, audio format), send an email to fcc504@fcc.gov or call the Consumer & Governmental Affairs Bureau at 202-418-0530 (voice), 202-418-0432 (TTY).

FOR FURTHER INFORMATION CONTACT: Katherine Morehead, Pricing Policy Division of the Wireline Competition Bureau, at (202) 418-0696 or via email at katherine.morehead@fcc.gov.

SUPPLEMENTARY INFORMATION: This is a summary of the FCC's Public Notice, DA 21-1422, released November 12, 2021. The full text of this Public Notice is available at https://docs.fcc.gov/public/attachments/DA-21-1422A1.pdf. The full text of the Securus Petition is available at: https://ecfsapi.fcc.gov/file/10830227993038/Subscription%20Plan%20Waiver%20Petition.PDF.

The Wireline Competition Bureau (Bureau) seeks comment on a petition filed by Securus Technologies, LLC asking the Commission to waive sections 64.6030, 64.6080, and 64.6090 of its rules, which require inmate calling services (ICS) calls to be charged to customers on a per-minute basis.

According to the Petition, Securus began piloting subscription plans for intrastate calls in 2020 and now offers these plans at eight correctional facilities. Under these plans, “subscribers pay a flat monthly fee for up to 100 calls per month or 25 calls per week.” Securus asserts that its subscription plan pilot program is in jeopardy because it “cannot definitively determine if a call is intrastate when a subscription plan call is made” since many of the calls are “made to wireless phones whose exact physical location is difficult to determine.” Thus, Securus claims that it must “treat potentially in-state but [jurisdictionally] indeterminate calls as interstate calls whose rates are limited to per-minute charges, jeopardizing the development and availability of flat-rate subscription plans for multiple calls.”

Worth Rises filed a response to the Securus Petition. Worth Rises argues that “Securus has not provided sufficient data in its waiver request for the Commission to determine the true per-minute rate range offered through its subscription packages and whether they generally conform to the Commission's rate caps.” Worth Rises identifies four principal concerns with Securus's subscription plans as described in the Petition—call length and usage data, dropped calls, unused calls, and renewals. Worth Rises suggests that the Commission should also require additional information from Securus before considering the waiver, including information on the policies related to the subscription programs and the “cost basis of the pilot subscription packages by pilot location.” Worth Rises requests that if the Commission grants the Petition, it should require Securus to base its subscription plans on minutes rather than calls, “limit Securus to selling packages of usage (e.g., 250 minutes) or time (e.g., unlimited monthly), but not both,” and “prevent automatic subscription renewals or require easily accessible termination options.”

The Bureau seeks comment on the Securus Petition. The Bureau also seeks comment on the additional information and data Worth Rises suggests the Commission should require before considering the Securus waiver request. Additionally, the Bureau seeks comment on the concerns Worth Rises raises regarding the Securus pilot subscription programs, including concerns relating to call length and usage, dropped and unused calls, subscription renewals, and the methods used to share initial disclosures and other subscription plan policies with customers.

Filing of Comments and Replies. Pursuant to sections 1.415 and 1.419 of the Commission's rules, 47 CFR 1.415, 1.419, interested parties may file comments on or before January 7, 2022 and reply comments on or before January 21, 2022. Comments may be filed using the Commission's Electronic Comment Filing System. See FCC, Electronic Filing of Documents in Rulemaking Proceedings, 63 FR 24121 (May 1, 1998). The Protective Order issued in this proceeding permits parties to designate certain material as confidential. Filings which contain confidential information should be appropriately redacted and filed pursuant to the procedure described therein.

• Electronic Filers: Comments may be filed electronically using the internet by accessing the ECFS: https://www.fcc.gov/ecfs/.

• Paper Filers: Parties who choose to file by paper must file an original and one copy of each filing. If more than one docket or rulemaking number appears in the caption of this proceeding, filers must submit two additional copies for each additional docket or rulemaking number.

• Filings can be sent by commercial overnight courier, or by first-class or overnight U.S. Postal Service mail. All filings must be addressed to the Commission's Secretary, Office of the Secretary, Federal Communications Commission.

• Commercial overnight mail (other than U.S. Postal Service Express Mail and Priority Mail) must be sent to 9050 Junction Drive, Annapolis Junction, MD 20701. U.S. Postal Service first-class, Express, and Priority mail must be addressed to 45 L Street NE, Washington, DC 20554.

• Effective March 19, 2020, and until further notice, the Commission no longer accepts any hand or messenger delivered filings. This is a temporary measure taken to help protect the health and safety of individuals, and to mitigate the transmission of COVID-19.

Comments and reply comments must include a short and concise summary of the substantive arguments raised in the pleading. Comments and reply comments must also comply with section 1.49 and all other applicable sections of the Commission's rules. The Commission directs all interested parties to include the name of the filing party and the date of the filing on each page of their comments and reply comments. All parties are encouraged to use a table of contents, regardless of the length of their submission.

People with Disabilities. The Commission asks that requests for accommodations be made as soon as possible in order to allow the agency to satisfy such requests whenever possible. Send an email to fcc504@fcc.gov or call the Consumer and Governmental Affairs Bureau at (202) 418-0530.

Ex Parte Presentations. This proceeding shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made and (2) summarize all data presented and arguments made during the presentation. If the presentation consisted in whole or in part of the presentation of data or arguments already reflected in the presenter's written comments, memoranda, or other filings in the proceeding, the presenter may provide citations to such data or arguments in the prior comments, memoranda, or other filings (specifying the relevant page and/or paragraph numbers where such data or arguments can be found) in lieu of summarizing them in the memorandum. Documents shown or given to Commission staff during ex parte meetings are deemed to be written ex parte presentations and must be filed consistent with section 1.1206(b) of the Commission's rules. Participants in this proceeding should familiarize themselves with the Commission's ex parte rules.

Additional Information. For further information on this Notice, please contact Katherine Morehead, Pricing Policy Division of the Wireline Competition Bureau, at (202) 418-0696 or via email at katherine.morehead@fcc.gov.

Federal Communications Commission.
Pamela Arluk,
Division Chief, Wireline Competition Bureau.

[FR Doc. 2021-26586 Filed 12-9-21; 8:45 am]

BILLING CODE 6712-01-P